DEPARTMENT OF THE TREASURY

Internal Revenue Service

26 CFR Part 1

[REG-150313-01]

RIN 1545-BA80

Redemptions Taxable as Dividends

AGENCY: Internal Revenue Service (IRS), Treasury.

ACTION: Cancellation of notice of public hearing on proposed rulemaking.

SUMMARY: This document provides notice of cancellation of a public hearing on proposed regulations that provide guidance regarding the treatment of the basis of redeemed stock when a distribution in redemption of such stock is treated as a dividend, as well as guidance regarding certain acquisitions of stock by related corporations that are stock under sections 302, 304, 704, 861, 1371, 1374, and 1502 of the Internal Revenue Code.

DATES: The public hearing originally scheduled for Thursday, February 20, 2003, at 10 a.m., is cancelled.

FOR FURTHER INFORMATION CONTACT: Treena Garrett of the Regulations Unit, Associate Chief Counsel (Procedure and Administration) (202) 622-7180 (not a toll-free number).

SUPPLEMENTARY INFORMATION: A notice of proposed rulemaking and notice of public hearing that appeared in the Federal Register on Friday, October 18, 2002, (67 FR 64331), announced that a public hearing was scheduled for Thursday, February 20, 2003, at 10 a.m. in room 4718, Internal Revenue Service Building, 1111 Constitution Avenue, NW., Washington, DC. The subject of the public hearing is proposed regulations under sections 302, 304, 704, 861, 1371, 1374, and 1502 of the Internal Revenue Code. The public comment period for these proposed regulations expired on Thursday, January 16, 2003. Outlines of oral comments were due on Thursday, January 30, 2003.

The notice of proposed rulemaking and notice of public hearing, instructed those interested in testifying at the public hearing to submit a request to speak and an outline of the topics to be addressed. As of Thursday, February 6, 2003, no one has requested to speak. Therefore, the public hearing scheduled for Thursday, February 20, 2003, is cancelled.

Cynthia E. Grigsby,
Chief, Regulations Unit, Associate Chief Counsel, (Procedure and Administration).

[FR Doc. 03-3751 Filed 2-13-03; 8:45 am]

BILLING CODE 4830-01-P